DEPARTMENT OF THE INTERIOR

Bureau of Land Management

[AZ 070-00-1610-DG-241E-082A]

Notice of Intent To Prepare a Resource Management Plan for the BLM Lake Havasu Field Office

AGENCY: United States Department of the Interior, Bureau of Land Management, Lake Havasu Field Office, Lake Havasu City, Arizona.

ACTION: Notice of Intent to prepare a Resource Management Plan, with an Environmental Impact Statement, for portions of Mohave, La Paz, Yavapai, and Maricopa Counties, Arizona; and portions of San Bernardino County, California.

SUMMARY: This document provides notice that the Bureau of Land Management (BLM) intends to prepare a Resource Management Plan (RMP) with an associated Environmental Impact Statement for the Lake Havasu Field Office. This field office is currently managing the resources under portions of four different Land Use Plans (LUP): Yuma District RMP 1985, Kingman RMP 1995, Lower Gila North Management Framework Plan (MFP) 1983, and Lower Gila South RMP 1988. The proposed plan will meet the needs and obligations set forth by the National Environmental Policy Act (NEPA), the Federal Land Policy and Management Act (FLPMA), and BLM management policies. This notice initiates the public scoping process to examine proposed issues and planning criteria.

SUPPLEMENTARY INFORMATION: The modification of the Lake Havasu Field Office boundaries has necessitated creation of the Lake Havasu RMP. Currently the office is managing resources under four different Land Use Plans (LUP): Yuma District RMP 1985, Kingman RMP 1995, Lower Gila North MFP 1983, and the Lower Gila South RMP 1988. The proposal is to revise and update the previous plans and combine them into one RMP for the Lake Havasu Field Office. This action requires an EIS level analysis, followed by an approved RMP and Record of Decision (ROD). Public meetings will be held throughout the plan scoping and preparation period. Meetings will be held in the communities of Parker, Lake Havasu City, and Bullhead City, Arizona, to ensure local participation and input. At least 15 days public notice will be given for meetings/activities where the public is invited to attend. Written comments will also be accepted throughout the planning process at the address below. Meetings and comment deadlines will be announced through the mailings, local news media, and the BLM web site (www.az.blm.gov). Additional public participation and input will be provided through comment on the alternatives and the BLM Draft RMP/ Draft EIS. Documents pertinent to this proposal may be examined at the Lake Havasu Field Office located in Lake Havasu City, Arizona or via the BLM web site. Early participation by all those interested is encouraged and will help determine the future management of the Lake Havasu Resource Management Area.

Preliminary issues and management concerns have been received internally from BLM personnel, other agencies, tribes and at meetings with individuals and user groups. This input represents the BLM understanding to date on issues and concerns with current management practices. Major issues to be addressed in the plan include, but are not limited to: 1) Protection of natural and cultural resources; 2) Management of public activities and uses; 3) Consistency with other agencies and community plans; 4) Facilities and infrastructures to provide visitor services and administration; 5) Transportation and access management.

After gathering public comments on what issues the plan should address, the suggested issues will be placed in one of three categories:

1. Issues to be resolved in the plan

2. Issues resolved through policy or administrative action.

3. Issues beyond the scope of this plan.

Rationale will be provided for each issue in Category 2 or 3. In addition to the preceding major issues, questions and concerns to be addressed include: ecosystem health, riparian condition, threatened and endangered species habitat, wildlife habitat, biodiversity, reintroduction of native species, wilderness values and management, cultural resource protection and interpretation, recreation/visitor use, rangeland management, and minerals management. The following disciplines will be represented on the BLM planning team: recreation, wildlife, range management, fire ecology, wilderness, geology, realty, cultural resources, soils, hydrology, Geographic Information Systems (GIS), and engineering.

Background Information

The plan will address and incorporate BLM policies, regulations and management directives. The BLM Lake Havasu Field Office manages approximately 1.3 million acres of Public Land in Arizona and California. The mission statement is: “Provide quality outdoor recreation opportunities and meet community expansion demands along the Colorado River, managing resources wisely. Foster responsible stewardship of the Public Lands through resource protection, public outreach and education.” The BLM intends to conduct formal scoping until January 31, 2002, to formulate alternative management strategies. During the winter of 2002, the team will hold field discussions and public meetings on each management alternative. The Draft RMP/Draft EIS will be issued for public comment by January 2003. The proposed RMP and Final EIS will be published by September of 2003, the approved RMP and ROD will be published by December 2003.

Comments

Comments, including names and street addresses of respondents, will be available for public review at the address below during regular business hours (7:45 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

ADDRESSES: For further information, future mailings, and to register comments, contact Catherine L. Wolff-White, Planning and Environmental Coordinator, Bureau of Land Management Lake Havasu Field Office, 2610 Sweetwater Drive, Lake Havasu City, AZ 86406. Phone: 928-505-1309, Fax 520-505-1208.

Dated: July 9, 2001.
Donald Ellsworth,
Field Manager.

[FR Doc. 01-19500 Filed 8-2-01; 8:45 am]

BILLING CODE 4310-32-P